DEPARTMENT OF DEFENSE

Office of the Secretary

Proposed Collection; Comment Request

AGENCY: Office of the Assistant Secretary of Defense for Health Affairs, DoD.

ACTION: Notice.

SUMMARY: In accordance with section 3506(c)(2)(A) of the Paperwork Reduction Act of 1995, the Office of the Assistant Secretary of Defense for Health Affairs announces the proposed extension of a public information collection and seeks public comment on the provisions thereof. Comments are invited on: (a) Whether the proposed reinstatement of collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received on or before March 17, 2003.

ADDRESSES: Written comments and recommendations on the information collection should be sent to TRICARE Management Activity, Health Program Analysis and Evaluation, 5111 Leesburg Pike, Falls Church, VA, Attn: Ms. Kim Frazier.

FOR FURTHER INFORMATION CONTACT: To request more information on this proposed information collection, please write to the above address. Or call TRICARE Management Activity 703-681-3636.

Title, Associated Forms, and OMB Number: Armed Forces Health Professions Loan Repayment Program Loan Information Form.

Needs and Uses: Form will be used by Loan program participants, to submit to lenders through their Service Representatives, to obtain verification of loan application data.

Affected Public: Individuals or household, Federal government.

Annual Burden Hours: 50.

Number of Respondents: 100.

Responses per Respondent: 1.

Average Burden per Response: 30 minutes.

Frequency: On occasion, only when a beneficiary is insured under circumstances creating possible liability in a third party.

SUPPLEMENTARY INFORMATION:

Summary of Information Collection

Title 10, U.S.C., requires applicants to submit this form, to their Service representative, prior to participation in the Health Loan Repayment Program (HPLR). Lenders will verify the data submitted and respond back to the Service Representative. All loans must meet federal standards and be approved by the Defense Finance and Accounting Service prior to disbursement of funds.

Dated: January 8, 2003.
Patricia L. Toppings,
Alternate OSD Federal Register Liaison Officer, Department of Defense.

[FR Doc. 03-783 Filed 1-14-03; 8:45 am]

BILLING CODE 5001-08-M